DEPARTMENT OF HOMELAND SECURITY

Federal Emergency Management Agency

[Docket ID: FEMA-2015-0004; OMB No. 1660-NEW]

Agency Information Collection Activities: Proposed Collection; Comment Request; Direct Housing Program Forms

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the collection of information related to FEMA's temporary housing assistance, which provides temporary housing to eligible survivors of federally declared disasters.

DATES: Comments must be submitted on or before April 10, 2015.

ADDRESSES: To avoid duplicate submissions to the docket, please use only one of the following means to submit comments:

(1) Online. Submit comments at www.regulations.gov under Docket ID FEMA-2015-0004. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Elizabeth McDowell, Supervisory Program Specialist, FEMA, Recovery Directorate, at (540) 686-3630 for further information. You may contact the Records Management Division for copies of the proposed collection of information at facsimile number (202) 212-4701 or email address: FEMA-Information-Collections-Management@fema.dhs.gov.

SUPPLEMENTARY INFORMATION: The Robert T. Stafford Disaster Relief and Emergency Assistance Act, 42 U.S.C 5174, authorizes the President to provide temporary housing units to include manufactured homes and other readily fabricated dwellings to eligible applicants who require temporary housing as a result of a major disaster. Requirements for disaster-related housing needs of individuals and households who are eligible for temporary housing assistance may be found at Title 44 CFR 206.117. The information collected provides the information necessary to determine the feasibility of the site for placement of temporary housing units. The information will also provide FEMA with access to place the temporary housing unit as well as retrieve it at the end of the use.

Collection of Information

Title: Direct Housing Program Forms.

Type of Information Collection: New information collection.

OMB Number: 1660—NEW.

FEMA Forms: FEMA Form 009-0-137, Unit Pad Requirements—Information Checklist; FEMA Form 009-0-131, Sales Calculation Worksheet; FEMA Form 009-0-129, Ready for Occupancy; FEMA Form 009-0-134, Recertification Worksheet; FEMA Form 009-0-135, Temporary Housing Agreement.

Abstract: The Robert T. Stafford Disaster Relief and Emergency Assistance Act authorizes the President to provide temporary housing units to eligible applicants who require temporary housing as a result of a major disaster. 42 U.S.C. 5174. The information collected provides the information necessary to determine the feasibility of the site for placement of temporary housing and so that FEMA can have access to place temporary housing units as well as retrieve it at the end of the use.

Affected Public: Individuals or households; business or other for-profit.

Number of Respondents: 25,000.

Number of Responses: 25,000.

Estimated Total Annual Burden Hours: 4,165 hours.

Estimated Annualized Burden Hours and Costs
Type of respondent | Form name/Form No. | Number of respondents | Number of responses per respondent | Total number of responses | Average burden per response (in hours) | Total annual burden (in hours) | Average hourly wage rate | Total annual respondent cost
Business or other for-profit | FEMA Form 009-0-137/Unit Pad Requirements—Information Checklist | 5,000 | 1 | 5,000 | 0.1667 (10 mins.) | 833 | $47.80 | $39,817.40
Individuals and Households | Sales Calculation Worksheet/FEMA Form 009-0-131 | 5,000 | 1 | 5,000 | 0.1667 (10 mins.) | 833 | 31.26 | 26,039.58
Business or other for-profit | Ready for Occupancy/FEMA Form 009-0-129 | 5,000 | 1 | 5,000 | 0.1667 (10 mins.) | 833 | 47.80 | 39,817.40
Individuals and Households | Recertification Worksheet/FEMA Form 009-0-134 | 5,000 | 1 | 5,000 | 0.1667 (10 mins.) | 833 | 31.26 | 26,039.58
Individuals and Households | Temporary Housing Agreement/FEMA Form 009-0-135 | 5,000 | 1 | 5,000 | 0.1667 (10 mins.) | 833 | 31.26 | 26,039.58
Total |  | 25,000 |  | 25,000 |  | 4,165 |  | 157,753.54
Note: The “Avg. Hourly Wage Rate” for each respondent includes a 1.4 multiplier to reflect a fully-loaded wage rate.

Estimated Cost: The estimated annual cost to respondents for the hour burden is $157,753.54. There are no annual costs to respondents' operations and maintenance costs for technical services. There is no annual start-up or capital costs. The cost to the Federal Government is $2,864,760.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 2, 2015.
Charlene D. Myrthil,
Director, Records Management Division, Mission Support, Federal Emergency Management Agency, Department of Homeland Security.

[FR Doc. 2015-02519 Filed 2-6-15; 8:45 am]

BILLING CODE 9111-23-P